DEPARTMENT OF TRANSPORTATION

Federal Railroad Administration

[Docket Number FRA-2012-0081]

Petition for Waiver of Compliance

In accordance with Part 211 of Title 49 Code of Federal Regulations (CFR), this document provides the public notice that by a document dated September 25, 2012, the Kiski Junction Railroad (KJR) has petitioned the Federal Railroad Administration (FRA) for a waiver of compliance from certain provisions of the Federal railroad safety regulations contained at 49 CFR part 223 (Safety Glazing Standards—Locomotives, Passenger Cars and Cabooses). FRA assigned the petition Docket Number FRA-2012-0081.

KJR has petitioned FRA for a waiver to operate passenger excursion equipment on the entire length of its existing railroad without compliant FRA safety glazing, as required by 49 CFR part 223. KJR was previously granted a waiver by FRA to operate this equipment on its Bagdad Line between Schenley and Leechburg, PA, in Docket Number RSGM-96-11. KJR recently expanded its operations and added 7 additional miles of track between Schenley, PA, and Ford City, with the assistance of State and Federal funding. KJR has designated this rail segment as the Allegheny Line. The Allegheny Line's maximum authorized speed is 25 mph, and it complies with FRA Class 2 track standards. The Bagdad Line's maximum authorized speed remains at 10 mph.

KJR requests a permanent waiver of compliance from the glazing requirements set forth in 49 CFR part 223 for one locomotive, one passenger car, and three cabooses—all of which are currently equipped with shatterproof safety glass. Locomotive KJR 7135, an ALCO S-1 diesel electric 660 HP, was built in 1943 as U.S. Navy 7135. Passenger Coach KJR 1154 was built in the 1920s for the Central Railroad of New Jersey. Caboose KJR 200 was built in the 1960s for the New York Central Railroad. Caboose KJR 5, which is a widow caboose, was built for the Pittsburgh and Lake Erie Railroad. Caboose KJR 4, a cupola caboose, was built in 1958 for the Norfolk and Western Railroad. KJR is requesting this relief due to the prohibitive cost involved in retrofitting this equipment with FRA-certified glazing.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 25, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 4, 2013.
Robert C. Lauby,
Deputy Associate Administrator for Regulatory and Legislative Operations.

[FR Doc. 2013-02771 Filed 2-6-13; 8:45 am]

BILLING CODE 4910-06-P